DEPARTMENT OF HOUSING AND URBAN DEVELOPMENT

[Docket No. FR-5692-N-02]

Notice of Proposed Information Collection: Comment Request; HUD Standard Grant Application Forms: Detailed Budget Form (HUD-424-CB), Budget Worksheet (HUD-424CBW), Application for Federal Assistance (SF-424), and the Third-Party Documentation Facsimile Transmittal Form (HUD-96011)

AGENCY: Office of Strategic Planning and Management, HUD.

ACTION: Notice.

SUMMARY: The proposed information collection requirement described below will be submitted to the Office of Management and Budget (OMB) for review, as required by the Paperwork Reduction Act. HUD is soliciting public comments on the subject proposal.

DATES: Comment Due Date: July 1, 2013.

ADDRESSES: Interested persons are invited to submit comments regarding this proposal. Comments should refer to the proposal by name and/or OMB approval numbers (2535-0017), (2525-0018), (4040-0004) and should be sent to: Colette Pollard, Departmental Reports Management Officer, QDAM, Department of Housing and Urban Development, 451 Seventh Street SW., Washington, DC 20410; Telephone (202) 402-4300, (this is not a toll-free number) or email Ms. Pollard at Colette.Pollard@hud.gov; for a copy of the proposed form and other available information.

FOR FURTHER INFORMATION CONTACT: Dorthera Yorkshire, AJT, Grants Management and Oversight Division, Department of Housing and Urban Development, 451 Seventh Street SW., Room 3156, Washington, DC 20410; email: Dorthera.Yorkshire@hud.gov; telephone (202) 402-4336; Fax (202) 708-0531 (this is not a toll-free number) for other available information. If you are a hearing-or-speech-impaired person, you may reach the above telephone numbers through TTY by calling the toll-free Federal Relay Service at 1-800-877-8339.

SUPPLEMENTARY INFORMATION: HUD will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice lists the following information:

Grant Application Detailed Budget Form (HUD-424-CB).

Grant Application Detailed Budget Worksheet (HUD-424-CBW). OMB Control Number: 2501-0017.

Facsimile Transmittal Form (HUD-96011). OMB Control Number: 2535-0118.

Application for Federal Assistance (SF-424). OMB Control Number: 4040-0004.

Description of the need for the information and proposed use: HUD-Common Budget Form and Worksheet intended to offer consolidated and streamlined grant application processes in accordance with the provisions of Public Law 106-107, The Federal Financial Assistance Improvement Act of 1999.

Agency form numbers, if applicable: HUD-424CB and HUD-424CBW.

Estimation of the total number of hours needed to prepare the information collection including number of respondents, frequency of response, and hours of response: An estimation of the total number of hours needed to prepare the forms for each grant application is one (1) hour, however, the burden will be assessed against each individual grant program submission under the Paperwork Reduction Act; number of respondents is 9,091; frequency of response is on the occasion of application for benefits.

Status of the proposed information collection: Reinstatement, without change, of previously approved collection for which approval has expired.

Authority: Section 3506 of the Paperwork Reduction Act of 1995, 44 U.S.C. Chapter 35, as amended.

Description of the need for the information and proposed use: The use of the Third-Party Documentation Facsimile Transmittal Form allows the Department to collect the same information electronically as we would for a paper-based application. It also produces an electronic version of the document that will be matched with the electronic application submitted through grants.gov to HUD.

Agency form numbers, if applicable: Third-Party Documentation Facsimile Transmittal Form (HUD-96011)

Estimation of the total number of hours needed to prepare the information collection including number of respondents, frequency of response, and hours of response: An estimation of the total number of hours needed to prepare the forms for each grant application is 5 minutes per response, however, the burden will be assessed against each individual grant program submission under the Paperwork Reduction Act; number of respondents is 33,000 frequency of response is on the occasion of application for benefits.

Status of the proposed information collection: Reinstatement, without change, of previously approved collection for which approval has expired.

Authority: Section 3506 of the Paperwork Reduction Act of 1995, 44 U.S.C. Chapter 35, as amended.

Description of the need for the information and proposed use: This is a standard form required for use as a cover sheet for submission of pre-applications and applications and related information under discretionary programs. Some of the items are required and some are optional at the discretion of the applicant or the federal agency (agency). Required fields on the form are identified with an asterisk (*) and are also specified as “Required” in the instructions below. In addition to these instructions, applicants must consult agency instructions to determine other specific requirements.

Agency form numbers, if applicable: SF-424 Application for Federal Assistance

Estimation of the total number of hours needed to prepare the information collection including number of respondents, frequency of response, and hours of response.

An estimation of the total number of hours needed to prepare the forms for each grant application is estimated to average 30 minutes per response however, the burden will be assessed against each individual grant program submission under the Paperwork Reduction Act; number of respondents is 33,000 frequency of response is on the occasion of application for benefits.

Status of the proposed information collection: Reinstatement, without change, of previously approved collection for which approval has expired.

Authority: PL: Public Law 106-107 468 Name of Law: Federal Financial Assistance Management Improvement Act of 1999. PL: Public Law 109-282 2590 Name of Law: Federal Funding Accountability and Transparency Act of 2006.

Dated: April 24, 2013.
Anne Morillon,
Director, Office of Strategic Planning and Management, Grants Management and Oversight.

[FR Doc. 2013-10062 Filed 4-29-13; 8:45 am]

BILLING CODE 4210-67-P